DEPARTMENT OF COMMERCE

National Oceanic and Atmospheric Administration

RIN 0648-XC368

International Affairs; U.S. Fishing Opportunities in the Northwest Atlantic Fisheries Organization Regulatory Area

AGENCY: National Marine Fisheries Service (NMFS), National Oceanic and Atmospheric Administration (NOAA), Commerce.

ACTION: Notification of U.S. fishing opportunities.

SUMMARY: NMFS announces fishing opportunities in the Northwest Atlantic Fisheries Organization (NAFO) Regulatory Area. This action is necessary to make fishing privileges available on an equitable basis.

DATES: Effective January 1, 2013, through December 31, 2013. Expressions of interest regarding fishing opportunities in NAFO will be accepted through December 31, 2012.

ADDRESSES: Expressions of interest regarding U.S. fishing opportunities in NAFO should be made in writing to Patrick E. Moran in the NMFS Office of International Affairs, at 1315 East-West Highway, Silver Spring, MD 20910 (phone: 301-427-8370, fax: 301-713-2313, email: Pat.Moran@noaa.gov).

Information relating to NAFO fishing opportunities, NAFO Conservation and Enforcement Measures, and the High Seas Fishing Compliance Act (HSFCA) Permit is available from Douglas Christel, at the NMFS Northeast Regional Office at 55 Great Republic Drive, Gloucester, MA 01930 (phone: 978-281-9141, fax: 978-281-9135, email: douglas.christel@noaa.gov) and from NAFO on the World Wide Web at http://www.nafo.int.

FOR FURTHER INFORMATION CONTACT: Patrick E. Moran, 301-427-8370.

SUPPLEMENTARY INFORMATION:

What Fishing Opportunities Are Available?

The principal species managed by NAFO are cod, flounder, redfish, American plaice, halibut, hake, capelin, shrimp, skates and Illex squid. NAFO maintains conservation measures for fishery resources in its Regulatory Area that include one effort limitation fishery (shrimp), as well as the other fisheries that are managed by total allowable catches (TACs) allocated among NAFO Contracting Parties. At the 2012 NAFO Annual Meeting, the United States received national quota allocations for three NAFO stocks to be fished during 2013. However, only redfish and squid will be made available to U.S. fishing interests during 2013, as further described below. The species, location, and allocation (in metric tons (mt)) of these 2013 U.S. fishing opportunities, as found in Annexes I.A, I.B, and I.C of the 2013 NAFO Conservation and Enforcement Measures, are as follows:

1. Redfish, NAFO Division 3M, 69 mt.

2. Squid (Illex), NAFO Subareas 3 & 4, 453 mt.

3. Shrimp, NAFO Division 3L, 96 mt.

Additionally, the United States may be transferred up to 1,000 mt (with the possibility of 500 additional mt) of NAFO Division 3LNO yellowtail flounder from Canada's quota allocation if requested before January 1 of each year, or any succeeding year through 2018, based upon a bilateral arrangement with Canada. The United States has already requested this 1,000 mt of Division 3LNO yellowtail flounder from Canada for 2013. Up to 500 mt of additional Division 3LNO yellowtail flounder could be made available on the condition that the United States transfers its Division 3L shrimp allocation (96 mt in 2013) to Canada. The United States has requested this additional Division 3LNO yellowtail flounder for 2013 to provide additional fishing opportunities for U.S. vessels following the successful development of a U.S. yellowtail flounder fishery within the NAFO Regulatory Area during 2012. If Canada accepts this request, the U.S. allocation of Division 3L shrimp will not be available to U.S. vessels in 2013. The arrangement for the transfer of Canadian yellowtail flounder quota would enable U.S. vessels to harvest American plaice as bycatch in the yellowtail flounder fishery in an amount equal to 15 percent of the total yellowtail flounder quota transferred to the United States. Additional quota for these and other stocks managed within the NAFO Regulatory Area may be available to U.S. vessels through industry-initiated chartering arrangements or transfers of quota from other NAFO Contracting Parties.

U.S. fishermen may also access stocks in which the United States has not received a national quota (also known as the “Others” allocation), including: Division 3M cod (57 mt); Division 3LN redfish (39 mt); Division 3O redfish (100 mt); Division 3NO white hake (59 mt); Division 3LNO skates (258 mt). Note that the United States shares these allocations with other NAFO Contracting Parties, and access to such stocks is on a first-come-first-served basis. Fishing is halted by NAFO when the “Others” allocation for a particular stock has been fully harvested.

Who can apply for these fishing opportunities?

Expressions of interest to fish for any or all of the 2013 U.S. fishing opportunities in NAFO described above will be considered from all U.S. fishing interests (e.g., vessel owners, processors, agents, others). Applicants are urged to carefully review and thoroughly address the application requirements and selection criteria as detailed below. Expressions of interest should be directed in writing to Patrick E. Moran (see ADDRESSES).

What information is required in an application letter?

Expressions of interest should include a detailed description of anticipated fishing operations in 2013. This includes, but is not limited to, the following elements: Intended target species; proposed dates of fishing operations; vessels to be used to harvest fish, including the name, registration, and home port of the intended harvesting vessel, as appropriate; the number of fishing personnel involved in vessel operations; intended landing port; for landing ports outside of the United States, whether or not the product will be shipped to the United States for processing; processing facilities to be employed; target market for harvested fish; and evidence demonstrating the ability of the applicant to successfully prosecute fishing operations in the NAFO Regulatory Area. Note that U.S. applicant vessels must be in possession of, or eligible for, a valid HSFCA permit, which is available from the NMFS Northeast Regional Office. Information regarding other requirements for fishing in the NAFO Regulatory Area is detailed below and is also available from the NMFS Northeast Regional Office (see ADDRESSES). U.S. applicants wishing to harvest U.S. allocations using a vessel from another NAFO Contracting Party, or transfer U.S. allocations to another NAFO Contracting Party should see below for details on U.S. and NAFO requirements for such activities. If you have further questions regarding what information is required in an expression of interest, please contact Patrick E. Moran (see ADDRESSES).

What criteria will be used in identifying successful applicants?

Applicants demonstrating the greatest benefits to the United States through their intended operations will be most successful. Such benefits might include (but are not limited to): The use of U.S vessels; detailed, positive impacts on U.S. employment; use of U.S. processing facilities; transport, marketing and sales of product within the United States; other benefits to U.S. businesses; and documentation of the physical characteristics and economics of the fishery for future use by the U.S. fishing industry. After reviewing all requests for allocations submitted, NMFS may decide not to grant any allocations if it is determined that no requests adequately meet the criteria described in this notice. To ensure equitable access by U.S. fishing interests, NMFS may provide additional guidance or procedures, or may promulgate regulations designed to allocate fishing interests to one or more U.S. applicants from among qualified applicants.

All applicants will be notified of the allocation decision as soon as possible. Once allocations have been awarded, NMFS will immediately take appropriate steps to notify NAFO and other appropriate actions to facilitate operations by U.S. fishing interests.

What if I want to charter a vessel to fish available U.S. allocations?

Under the bilateral arrangement with Canada, the United States may enter into a chartering (or other) arrangement with a Canadian vessel to harvest the transferred yellowtail flounder. For other NAFO-regulated stocks, the United States may enter into a chartering arrangement with a vessel from any other NAFO Contracting Party. Prior notification to the NAFO Executive Secretary is necessary in either case. Expressions of interest intending to make use of another NAFO Contracting Party vessel under chartering arrangements should provide the following information: The name and registration number of the intended vessel; a copy of the charter agreement; a detailed fishing plan; a written letter of consent from the applicable NAFO Contracting Party; the date from which the vessel is authorized to commence fishing; and the duration of the charter (not to exceed six months). Note that expressions of interest using another NAFO Contracting Party vessel under charter should be accompanied by a detailed description of anticipated benefits to the United States, as described above.

Any vessel wishing to enter into a chartering arrangement with the United States must be in full current compliance with the requirements outlined in the NAFO Convention and Conservation and Enforcement Measures. These requirements include, but are not limited to, submission of the following reports to the NAFO Executive Secretary: Notification that the vessel is authorized by its flag State to fish within the NAFO Regulatory Area during 2013, provisional monthly catch reports for all vessels of that NAFO Contracting Party operating in the NAFO Regulatory Area, daily catch reports for each day fished by the subject vessel within the Regulatory Area, observer reports within 30 days following the completion of a fishing trip, and an annual statement of actions taken by its flag state to comply with the NAFO Convention. The United States may also consider the vessel's previous compliance with NAFO bycatch, reporting and other provisions, as outlined in the NAFO Conservation and Enforcement Measures, before entering into a chartering arrangement. More details on NAFO requirements for chartering operations are available from NMFS (see ADDRESSES).

What if I want to transfer U.S. quota allocations to another NAFO party?

Under NAFO rules in effect for 2013, the United States may transfer fishing opportunities with the consent of the receiving NAFO Contracting Party and with prior notification to the NAFO Executive Secretary. An applicant may request to be allocated one of the above U.S. opportunities so that it may be transferred to another NAFO party, although such applications will generally be given lesser priority than those that involve more direct harvesting or processing by U.S. entities. Applications to transfer U.S. fishing opportunities should contain a letter of consent from the receiving NAFO Contracting Party, and should also be accompanied by a detailed description of anticipated benefits to the United States. As in the case of chartering operations, the United States may also consider a NAFO Contracting Party's previous compliance with NAFO bycatch, reporting and other provisions, as outlined in the NAFO Conservation and Enforcement Measures, before entering agreeing to a transfer.

What rules must I follow while fishing?

U.S. applicant vessels must be in possession of, or eligible for, a valid HSFCA permit, which is available from the NMFS Northeast Regional Office. Note that vessels issued valid HSFCA permits under 50 CFR part 300 are exempt from the Northeast multispecies and monkfish permit, mesh size, effort-control, and possession limit restrictions, specified in §§ 648.4, 648.80, 648.82, 648.86, 648.87, 648.91, 648.92, and 648.94, respectively, while transiting the U.S. exclusive economic zone (EEZ) with multispecies and/or monkfish on board the vessel, or landing multispecies and/or monkfish in U.S. ports that were caught while fishing in the NAFO Regulatory Area, provided:

1. The vessel operator has a letter of authorization issued by the Regional Administrator on board the vessel;

2. For the duration of the trip, the vessel fishes, except for transiting purposes, exclusively in the NAFO Regulatory Area and does not harvest fish in, or possess fish harvested in, or from, the U.S. EEZ;

3. When transiting the U.S. EEZ, all gear is properly stowed in accordance with one of the applicable methods specified in § 648.23(b); and

4. The vessel operator complies with the provisions/conditions specified on the HSFCA permit and all NAFO conservation and enforcement measures while fishing in the NAFO Regulatory Area.

Relevant NAFO Conservation and Enforcement Measures include, but are not limited to, maintenance of a fishing logbook with NAFO-designated entries; adherence to NAFO hail system requirements; presence of an on-board observer; deployment of a functioning, autonomous vessel monitoring system authorized by issuance of the HSFCA permit; and adherence to all relevant minimum size, gear, bycatch, and other requirements. Further details regarding U.S. and NAFO requirements are available from the NMFS Northeast Regional Office, and can also be found in the current NAFO Conservation and Enforcement Measures on the Internet (see ADDRESSES).

Dated: December 7, 2012.
Elizabeth McLanahan,
Acting Director, Office of International Affairs, National Marine Fisheries Service.

[FR Doc. 2012-30136 Filed 12-13-12; 8:45 am]

BILLING CODE 3510-22-P